DEPARTMENT OF COMMERCE

National Oceanic and Atmospheric Administration

[I.D. 112100C]

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council) and its Executive Committee, Law Enforcement Committee, and Demersal Species Committee meeting as a Council Committee of the Whole, together with the Atlantic States Marine Fisheries Commission's (ASMFC) Summer Flounder, Scup, and Black Sea Bass Board will hold public meetings.

DATES: The meetings will be held on Tuesday, December 12, to Thursday, December 14, 2000.

ADDRESSES: The meetings will be held at the Trump Plaza Hotel, The Boardwalk and Mississippi Avenue, Atlantic City, NJ; telephone: 609-441-2708.

Council address: Mid-Atlantic Fishery Management Council, 300 S. New Street, Dover, DE 19904, telephone: 302-674-2331.

FOR FURTHER INFORMATION CONTACT: Daniel T. Furlong, Executive Director, Mid-Atlantic Fishery Management Council; telephone: 302-674-2331, ext. 19.

SUPPLEMENTARY INFORMATION:

Dates and Times of Meetings

Tuesday, December 12, 2000, 8:30 a.m. until 5 p.m.-- the Council will meet with the ASMFC Summer Flounder, Scup, and Black Sea Bass Board.

Wednesday, December 13, 2000, 8:30 - 11 a.m.-- the Council will meet with the ASMFC Summer Flounder, Scup, and Black Sea Bass Board.

December 13, 2000, 11 a.m. until 1:30 p.m.-- there will be an Information & Education Program.

December 13, 2000, 1:30 - 5:30 p.m.-- the Council will convene.

Thursday, December 14, 2000, 8 - 9 a.m.-- the Executive Committee will meet.

December 14, 2000, from 8 - 9 a.m.-- the Law Enforcement Committee will meet concurrently.

December 14, 2000, 9 a.m. until 1 p.m.-- the Council will meet.

Agenda items for this meeting are: Review and discuss Monitoring Committee recommendations and approve recreational management measures for 2001 for the summer flounder, scup, and black sea bass recreational fisheries; review public comments, review and discuss Framework 2 management measures regarding conservation equivalency (Meeting 1), discuss and prioritize 2001 fishery management plan (FMP) actions for the summer flounder, scup, and black sea bass fisheries; review and discuss Joint Monkfish Committee's recommendations on monkfish management measures, develop and approve management measures for 2001/02 monkfish fishery; review and evaluate position paper for Amendment 9 to the Squid, Mackerel, Butterfish FMP; review and discuss Joint Dogfish Committee's recommendations on spiny dogfish management measures, develop and approve management measures for 2001/01 spiny dogfish fishery; review and discuss the New England Council's request for opportunity to comment on the Council's annual specifications, review 2001 grant application, review 2001 Annual Work Plan; review Coast Guard/Law Enforcement Awards Program actions; review and approve proposed quota set-aside action; hear organizational and committee reports, and if available, comment on NMFS proposed rule regarding regulations impacting the summer flounder, scup, and black sea bass fisheries in 2001. During the Regional Administrator's Report there will be time to take public comment on Rutgers University's Exempted Fishing Permits application, i.e., mesh selectivity studies.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council’s intent to take final actions to address such emergencies.

Special Accommodations

These meetings are physically accessible to people with disabilities. Requests for sign language interpretation or other auxiliary aids should be directed to Joanna Davis at the Council (see ADDRESSES) at least 5 days prior to the meeting date.

Dated: November 22, 2000.
Richard W. Surdi,
Acting Director, Office of Sustainable Fisheries, National Marine Fisheries Service.

[FR Doc. 00-30362 Filed 11-28-00; 8:45 am]

BILLING CODE 3510-22-S